DEPARTMENT OF ENERGY

Federal Energy Regulatory Commission

Combined Notice of Filings #1

Take notice that the Commission received the following electric corporate filings:

Docket Numbers: EC19-63-000.

Applicants: NRG Wholesale Generation LP, Entergy Mississippi, LLC.

Description: Response of GenOn Wholesale Generation LP and Entergy Mississippi, LLC, to May 16, 2019 deficiency letter.

Filed Date: 6/14/19.

Accession Number: 20190614-5211.

Comments Due: 5 p.m. ET 7/5/19.

Take notice that the Commission received the following exempt wholesale generator filings:

Docket Numbers: EG19-128-000.

Applicants: PSEG Keys Energy Center LLC, PSEG Fossil Sewaren Urban Renewal LLC.

Description: Self-Certifications of EG of PSEG Keys Energy Center LLC and PSEG Fossil Sewaren Urban Entitiy LLC.

Filed Date: 6/14/19.

Accession Number: 20190614-5145.

Comments Due: 5 p.m. ET 7/5/19.

Docket Numbers: EG19-129-000.

Applicants: Wessington Springs Wind, LLC.

Description: Notice of Self-Certification of Exempt Wholesale Generator Status of Wessington Springs Wind, LLC.

Filed Date: 6/14/19.

Accession Number: 20190614-5155.

Comments Due: 5 p.m. ET 7/5/19.

Docket Numbers: EG19-131-000.

Applicants: PSEG Keys Energy Center LLC.

Description: Self-Certification of EG of PSEG Keys Energy Center LLC.

Filed Date: 6/17/19.

Accession Number: 20190617-5143.

Comments Due: 5 p.m. ET 7/8/19.

Docket Numbers: EG19-132-000.

Applicants: PSEG Fossil Sewaren Urban Renewal LLC.

Description: Self-Certification of EG of PSEG Fossil Sewaren Urban Renewal LLC.

Filed Date: 6/17/19.

Accession Number: 20190617-5145.

Comments Due: 5 p.m. ET 7/8/19.

Take notice that the Commission received the following electric rate filings:

Docket Numbers: ER18-1739-002.

Applicants: Midcontinent Independent System Operator, Inc.

Description: Compliance filing: 2019-06-17_Addtl Compliance by MISO TOs to revise Att O and ADIT Work Papers to be effective 1/1/2019.

Filed Date: 6/17/19.

Accession Number: 20190617-5098.

Comments Due: 5 p.m. ET 7/8/19.

Docket Numbers: ER18-2063-002.

Applicants: Flemington Solar, LLC.

Description: Compliance filing: Flemington Solar Compliance Filing to be effective 10/1/2018.

Filed Date: 6/17/19.

Accession Number: 20190617-5123.

Comments Due: 5 p.m. ET 7/8/19.

Docket Numbers: ER18-2323-003.

Applicants: Midcontinent Independent System Operator, Inc., Michigan Electric Transmission Company, LLC.

Description: Compliance filing: 2019-06-17_Addtl Compliance Filing re METC Revisions to Att O Formula Rates to be effective 1/1/2019.

Filed Date: 6/17/19.

Accession Number: 20190617-5086.

Comments Due: 5 p.m. ET 7/8/19.

Docket Numbers: ER18-2323-004.

Applicants: Midcontinent Independent System Operator, Inc., ITC Midwest LLC, International Transmission Company.

Description: Compliance filing: 2019-06-17_Addtl Compliance Filing re ITC Companies Revisions to Att O to be effective 1/1/2019.

Filed Date: 6/17/19.

Accession Number: 20190617-5118.

Comments Due: 5 p.m. ET 7/8/19.

Docket Numbers: ER19-1806-001.

Applicants: Mitsui Bussan Commodities, Ltd.

Description: Compliance filing: Amendment to MBR filing to be effective 8/19/2019.

Filed Date: 6/17/19.

Accession Number: 20190617-5091.

Comments Due: 5 p.m. ET 7/8/19.

Docket Numbers: ER19-2154-000.

Applicants: Sayreville Power, LLC.

Description: Baseline eTariff Filing: New Baseline Reactive Tariff Filing to be effective 9/1/2019.

Filed Date: 6/14/19.

Accession Number: 20190614-5161.

Comments Due: 5 p.m. ET 7/5/19.

Docket Numbers: ER19-2155-000.

Applicants: Portland Power, LLC.

Description: Baseline eTariff Filing: New Baseline Reactive Tariff Filings to be effective 9/1/2019.

Filed Date: 6/14/19.

Accession Number: 20190614-5162.

Comments Due: 5 p.m. ET 7/5/19.

Docket Numbers: ER19-2156-000.

Applicants: Warren Generation, LLC.

Description: Baseline eTariff Filing: New Baseline Reactive Tariff Filing to be effective 9/1/2019.

Filed Date: 6/14/19.

Accession Number: 20190614-5165.

Comments Due: 5 p.m. ET 7/5/19.

Docket Numbers: ER19-2157-000.

Applicants: Mountain Power, LLC.

Description: Baseline eTariff Filing: New Baseline Reactive Tariff Filing to be effective 9/1/2019.

Filed Date: 6/14/19.

Accession Number: 20190614-5166.

Comments Due: 5 p.m. ET 7/5/19.

Docket Numbers: ER19-2158-000.

Applicants: Orrtanna Power, LLC.

Description: Baseline eTariff Filing: New Baseline Reactive Tariff Filing to be effective 9/1/2019.

Filed Date: 6/14/19.

Accession Number: 20190614-5168.

Comments Due: 5 p.m. ET 7/5/19.

Docket Numbers: ER19-2159-000.

Applicants: Shawnee Power, LLC.

Description: Baseline eTariff Filing: New Baseline Reactive Tariff Filing to be effective 9/1/2019.

Filed Date: 6/14/19.

Accession Number: 20190614-5169.

Comments Due: 5 p.m. ET 7/5/19.

Docket Numbers: ER19-2160-000.

Applicants: Titus Power, LLC.

Description: Baseline eTariff Filing: New Baseline Reactive Tariff Filing to be effective 9/1/2019.

Filed Date: 6/14/19.

Accession Number: 20190614-5171.

Comments Due: 5 p.m. ET 7/5/19.

Docket Numbers: ER19-2161-000.

Applicants: Hamilton Power, LLC.

Description: Baseline eTariff Filing: New Baseline Reactive Tariff Filing to be effective 9/1/2019.

Filed Date: 6/14/19.

Accession Number: 20190614-5172.

Comments Due: 5 p.m. ET 7/5/19.

Docket Numbers: ER19-2162-000.

Applicants: Blossburg Power, LLC.

Description: Baseline eTariff Filing: New Baseline Reactive Tariff Filing to be effective 9/1/2019.

Filed Date: 6/14/19.

Accession Number: 20190614-5173.

Comments Due: 5 p.m. ET 7/5/19.

Docket Numbers: ER19-2163-000.

Applicants: Hunterstown Power, LLC.

Description: Baseline eTariff Filing: New Baseline Reactive Tariff Filing to be effective 9/1/2019.

Filed Date: 6/14/19.

Accession Number: 20190614-5174.

Comments Due: 5 p.m. ET 7/5/19.

Docket Numbers: ER19-2164-000.

Applicants: Tolna Power, LLC.

Description: Baseline eTariff Filing: New Baseline Reactive Tariff Filing to be effective 9/1/2019.

Filed Date: 6/14/19.

Accession Number: 20190614-5176.

Comments Due: 5 p.m. ET 7/5/19.

Docket Numbers: ER19-2165-000.

Applicants: Western Interconnect LLC.

Description: Compliance filing: Order No. 845 Compliance Filing to be effective 5/22/2019.

Filed Date: 6/14/19.

Accession Number: 20190614-5180.

Comments Due: 5 p.m. ET 7/5/19.

Docket Numbers: ER19-2166-000.

Applicants: Southwest Power Pool, Inc.

Description: § 205(d) Rate Filing: 1888R9 Westar Energy, Inc. NITSA NOA to be effective 9/1/2019.

Filed Date: 6/17/19.

Accession Number: 20190617-5025.

Comments Due: 5 p.m. ET 7/8/19.

Docket Numbers: ER19-2168-000.

Applicants: Southwest Power Pool, Inc.

Description: § 205(d) Rate Filing: 1889R8 Westar Energy, Inc.—Mindenmines NITSA NOA to be effective 9/1/2019.

Filed Date: 6/17/19.

Accession Number: 20190617-5037.

Comments Due: 5 p.m. ET 7/8/19.

Docket Numbers: ER19-2169-000.

Applicants: Southwest Power Pool, Inc.

Description: § 205(d) Rate Filing: 1890R9 Westar Energy, Inc.—Moran NITSA NOA to be effective 9/1/2019.

Filed Date: 6/17/19.

Accession Number: 20190617-5064.

Comments Due: 5 p.m. ET 7/8/19.

Docket Numbers: ER19-2170-000.

Applicants: Duke Energy Progress, LLC.

Description: § 205(d) Rate Filing: DEP-5 Towns Dynamic Schedule Agmts Concurrence to be effective 6/8/2019.

Filed Date: 6/17/19.

Accession Number: 20190617-5079.

Comments Due: 5 p.m. ET 7/8/19.

Docket Numbers: ER19-2171-000.

Applicants: NSTAR Electric Company.

Description: Initial rate filing: Vineyard Wind Design and Engineering Agreement to be effective 6/17/2019.

Filed Date: 6/17/19.

Accession Number: 20190617-5097.

Comments Due: 5 p.m. ET 7/8/19.

Docket Numbers: ER19-2172-000.

Applicants: PJM Interconnection, L.L.C.

Description: § 205(d) Rate Filing: SA No. 5420 and SA No. 5421 re NITSAs Among PJM and NRG Power Marketing LLC to be effective 6/1/2019.

Filed Date: 6/17/19.

Accession Number: 20190617-5113.

Comments Due: 5 p.m. ET 7/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2019.
Nathaniel J. Davis, Sr.,
Deputy Secretary.

[FR Doc. 2019-13239 Filed 6-20-19; 8:45 am]

BILLING CODE 6717-01-P